FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—06/10/2002
20020302 | L-3 Communications Holdings, Inc | PerkinElmer, Inc | PerkinElmer Detection Systems, Inc. (California) PerkinElmer Detection Systems, Inc. (Delaware)
20020761 | Telephone and Data Systems, Inc. Voting Trust | PrimeCo Wireless Communications LLC | PrimeCo Wireless Communications LLC.
20020812 | TEPPCO Partners, L.P | Burlington Resources Inc | Burlington Resources Inc.
20020818 | Sanmina-SCI Corporation | Siemens Aktiengesellschaft | Siemens Aktiengesellschaft.
20020820 | Stephen A. Wynn | Wynn Resorts, Inc | Wynn Resorts, Inc.
20020821 | Aruze Corp. | Wynn Resorts, Inc | Wynn Resorts, Inc.
20020823 | Royal Bank of Canada | Barclays Bank PLC | Barclays Bank PLC.
20020825 | Bingham Dana LLP | McCutchen, Doyle, Brown & Enersen, LLP | McCutchen, Doyle, Brown & Enersen, LLP.
20020827 | Chittranjan K. Thakkar and Saloni Thakkar | Computer Sciences Corporation | Computer Sciences Corporation.
20020834 | Stronach Trust | The Midpointe Trust | Lone Star Race Park, Ltd.
Transactions Granted Early Termination—06/12/2002
20020798 | SBC Communications Inc | SpectraSite Holdings, Inc | CA/NV Tower Holdings, LLc
Transactions Granted Early Termination—06/13/2002
20020804 | ENSCO International Incorporated | Chiles Offshore Inc | Chiles Offshore Inc.
20020822 | Citigroup Inc | Golden State Bancorp Inc | Auto One Acceptance Corporation. CalFed Investments. First Nationwide Mortgage Corporation.
20020839 | Mr. Paris Mouratoglou | Investeringsselskabet Energy Holding A/S | enXco, Inc.
Transactions Granted Early Termination—06/14/2002
20020776 | Hilb, Rogal and Hamilton Company | Hobbs Group, LLC | Hobbs Group, LLC.
20020789 | Pactiv Corporation | Philip Kamins | Winkler Forming, Inc.
20020831 | J.P. Morgan Chase & Co | MasterCard Incorporated | MasterCard Incorporated.
20020843 | Wendy's International, Inc | Fresh Enterprises, Inc | Fresh Enterprises, Inc.
20020844 | Trident II, L.P | Citigroup Inc | Commercial Insurance Resources, Inc.
20020847 | REMEC, Inc | Spectrian Corporation | Spectrian Corporation.
20020848 | California Physicians' Service | Lifeguard, Inc | Lifeguard, Inc.
20020854 | William E. Simon & Sons Private Equity Partners, L.P | CFP Group, Inc | Custom Food Products, Inc.
20020855 | Tier Technologies, Inc | Comerica Incorporated | Official Payments Corporation.
Transactions Granted Early Termination—06/18/2002
20020836 | The Goldman Sachs Group, Inc | Walter N. Frank & Co., LLC | Walter N. Frank & Co., LLC.
20020837 | Anthem, Inc | Trigon Healthcare, Inc | Trigon Healthcare, Inc.
20020867 | Openwave Systems Inc | SignalSoft Corporation | SignalSoft Corporation.
20020870 | PwCC Limited | Pricewaterhouse Coopers LLP | PWCC LO.
Transactions Granted Early Termination—06/19/2002
20020830 | ABRY Partners IV, L.P | Hughes Holding, Inc | Hughes Holding, Inc.
20020849 | Citigroup Inc | MasterCard Incorporated | MasterCard Incorporated.
Transactions Granted Early Termination—06/20/2002
20020826 | General Electric Company | American United Mutual Insurance Holding Company | American United Life Insurance Company.
|  |  | AUL Long Term Care Solutions, Inc.
|  |  | AUL Reinsurance Management Services (Canada), Ltd.
|  |  | AUL Reinsurance Management Services, LLC.
20020850 | Key Energy Services, Inc | Q Services, Inc | Q Services, Inc.

FOR FURTHER INFORMATION CONTACT: Sandra M. Peay, Contact Representative, Federal Trade Commission, Premerger Notification Office, Bureau of Competition, Room 303, Washington, DC 20580, (202) 326-3100.

By Director on the Commission.
Donald S. Clark,
Secretary.

[FR Doc. 02-17323 Filed 7-9-02; 8:45 am]

BILLING CODE 6750-01-M